DEPARTMENT OF HEALTH AND HUMAN SERVICES

Centers for Disease Control and Prevention

Healthcare Infection Control Practices Advisory Committee (HICPAC)

In accordance with section 10(a)(2) of the Federal Advisory Committee Act (Pub. L. 92-463), the Centers for Disease Control and Prevention (CDC) announces the following meeting of the aforementioned committee:

Time and Date: 1:30 p.m.-3 p.m., September 8, 2010.

Place: Teleconference.

Status: Open to the public. Teleconference access limited only by availability of telephone ports. To participate in the teleconference please dial 1-888-324-7115 and enter conference code 5959790.

Purpose: The Committee is charged with providing advice and guidance to the Secretary, HHS; the Assistant Secretary for Health; the Director, CDC; and the Director, National Center for Emerging and Zoonotic Infectious Diseases (NCEZID), regarding: (1) The practice of hospital infection control; strategies for surveillance, prevention, and control of infections (e.g., nosocomial infections), antimicrobial resistance, and related events in settings where healthcare is provided; and (3) periodic updating of guidelines and other policy statements regarding prevention of healthcare-associated infections and healthcare-related conditions.

Matters To Be Discussed: The agenda will include a follow up discussion on the Draft Guideline for the Prevention and Control of Norovirus Gastroenteritis Outbreaks in Healthcare Settings. Materials for the call will be available on the HICPAC Web site, http://www.cdc.gov/hicpac, no later than September 6, 2010.

Agenda items are subject to change as priorities dictate.

Contact Person For More Information: Michelle King, HICPAC, Division of Healthcare Quality Promotion, NCEZID, CDC, 1600 Clifton Road, NE., Mailstop A-07, Atlanta, Georgia 30333; E-mail: HICPAC@cdc.gov.

The Director, Management Analysis and Services Office, has been delegated the authority to sign Federal Register notices pertaining to announcements of meetings and other committee management activities, for both CDC and the Agency for Toxic Substances and Disease Registry.

Dated: August 10, 2010.
Elaine L. Baker,
Director, Management Analysis and Services Office, Centers for Disease Control and Prevention (CDC).

[FR Doc. 2010-20302 Filed 8-16-10; 8:45 am]

BILLING CODE 4163-18-P